DEPARTMENT OF TRANSPORTATION

Federal Aviation Administration

RTCA Special Committee 186: Automatic Dependent Surveillance—Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held September 25-29, 2006 starting at 9 a.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting.

• September 25:

• RFG-NRA.

• RFG-AD.

• September 26:

• RFG-NRA.

• RFG-AD.

• September 27:

• RFG-NRA.

• RFG-AD.

• September 28:

• Opening Plenary Session (Chairman's Introductory Remarks, Review of Meeting Agenda, Review/Approval of the Thirty Seventh Meeting Summary, RTCA Paper No. 150-06/SC-186-237).

• SC-186 Activity Reports:

• WG-1, Operations & Implementation.

• WG-2, TIS-B.

• WG-3, 1090 MHz MOPS.

• WG-4, Application Technical Requirements.

• WG-5, UAT MOPS.

• WG-6, ADS-B MASPS.

• Requirements Focus Group.

• EUROCAE WG-51 Activity Report.

• STP MOPS—Review Status.

• Final Review/Approval-Proposed Final Draft—Safety, Performance & Interoperability Requirements Document for ADS-B-NRA Application, RTCA Paper No. 162-06/SC-186-238.

• Discussion—TIS-B Management Messages/TIS-B MOPS.

• Closing Plenary Session (New Business, Other Business, Review Action Items/Work Program, Date, Place and Time of Next Meeting, Adjourn).

• September 29:

• RFG-Plenary Session.

Note: AD—Application Development.

ASAS—Aircraft Surveillance Applications System.

ASSAP—Airborne Surveillance & Separation Assurance Processing.

CDTI—Cockpit Display of Traffic Information.

MOPS—Minimum Operational Performance Standards.

NRA—Non-Radar Airspace.

RFG—Requirements Focus Group.

STP—Surveillance Transmit Processing.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, August 29, 2006.
Francisco Estrada C.,
RTCA Advisory Committee.

[FR Doc. 06-7490 Filed 9-6-06; 8:45 am]

BILLING CODE 4910-13-M